DEPARTMENT OF COMMERCE

Patent and Trademark Office

[Docket No.: PTO-P-2024-0055]

USPTO Public Engagement Partnership: Public Meeting Series To Enhance Outreach to the Public on Patent Policies and Procedures

AGENCY: United States Patent and Trademark Office, U.S. Department of Commerce.

ACTION: Notice of meetings.

SUMMARY: The United States Patent and Trademark Office (USPTO) is announcing the Public Engagement Partnership meeting series to facilitate increased engagement with the public about the patent system. The USPTO will host the first meeting of the Public Engagement Partnership series virtually and in person at the USPTO headquarters on March 1, 2024. The purpose of this meeting is to provide education about the patent system and to share ideas, experiences, and insights related to the administration of the system.

DATES: The first public meeting will take place on March 1, 2024, from 1-5 p.m. ET. Persons seeking to attend, either virtually or in person, must register by February 29, 2024, at the web page in the ADDRESSES section below.

ADDRESSES: Register at www.uspto.gov/patents/initiatives/PublicEngagementPartnership. The first public meeting will take place virtually and in person at the USPTO headquarters, Clara Barton Auditorium, 600 Dulany St., Alexandria, VA 22314. Registration is required for both virtual and in-person attendance. All major entrances to the building are accessible to people with disabilities.

FOR FURTHER INFORMATION CONTACT: Linda Horner, Acting Senior Lead Administrative Patent Judge, at 571-272-4596 or Linda.Horner@uspto.gov. You can also send inquiries to PublicEngagementPartnership@uspto.gov. Please direct all media inquiries to the Office of the Chief Communications Officer at 571-272-8400.

SUPPLEMENTARY INFORMATION: The USPTO's mission is to drive U.S. innovation, inclusive capitalism, and global competitiveness with the ultimate goal of increasing innovation, entrepreneurship, and creativity for the benefit of all Americans and people around the world. In fulfilling this mission, the USPTO appreciates that its work impacts our country's economic prosperity and, in turn, the public. In January of 2023, the USPTO engaged with the public at a listening session regarding USPTO collaboration with other government agencies to ensure that the patent system is not being used to unjustifiably delay competition beyond that reasonably contemplated by applicable law. At this listening session, members of the public expressed a desire to increase engagement with the USPTO about the patent system.

To expand outreach efforts, the USPTO seeks to form a partnership with members of the public, including, for example, advocacy groups, public interest-focused nonprofits, academics, and civil society. The Public Engagement Partnership will provide an opportunity to bring the public and the USPTO together through a series of engagements to offer education about the patent system and to share ideas, experiences, and insights related to the administration of the system.

The USPTO will hold the inaugural meeting of the Public Engagement Partnership meeting series virtually and in person at the USPTO headquarters in Alexandria, Virginia, on March 1, 2024. Presentations at this first meeting will provide foundational education about the patent system and the USPTO's practices and policies. The meeting will also include a panel discussion with representatives of the public interest community and advocacy groups on areas of particular interest. Subsequent meetings in the series will build on this foundational information. For example, future meetings will include presentations on tools for understanding a patent and existing mechanisms for participation in the patent procurement process, such as third-party submissions. Meetings will also cover participation in the enforcement of patents before the USPTO via ex parte reexamination requests, and petitions for inter partes review and post-grant review before the Patent Trial and Appeal Board. These mechanisms are available to the public at large.

Instructions for and Information on the Public Meeting

The public meeting will take place virtually and in person at the USPTO headquarters, Clara Barton Auditorium, 600 Dulany St., Alexandria, VA 22314, on March 1, 2024, from 1-5 p.m. ET. The agenda is available on the USPTO website at www.uspto.gov/patents/initiatives/PublicEngagementPartnership. Those interested in attending the meeting can register on the same web page.

Katherine Kelly Vidal,
Under Secretary of Commerce for Intellectual Property and Director of the United States Patent and Trademark Office.

[FR Doc. 2024-00317 Filed 1-9-24; 8:45 am]

BILLING CODE 3510-16-P